CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled Study of Volunteers' Experience in the VISTA Program to the Office of Management and Budget (OMB) for review and approval in accordance with the Paperwork Reduction Act of 1995, Pub. L. 104-13, (44 U.S.C. Chapter 35). Copies of this ICR, with applicable supporting documentation, may be obtained by calling the Corporation for National and Community Service, Kelly Arey at (202) 606-5000, ext. 197. Individuals who use a telecommunications device for the deaf (TTY-TDD) may call (202) 565-2799 between 8:30 a.m. and 5 p.m. eastern time, Monday through Friday.

DATES: Comments must be received on or before January 10, 2005.

ADDRESSES: Comments may be submitted, identified by the title of the information collection activity, by any of the following two methods:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on July 29, 2004. This comment period ended September 27, 2004. No comments were received from this Notice.

Description: The Corporation for National and Community Service is strongly committed to evaluating the effectiveness of its programs. VISTA is our country's longest continually operating domestic service program, with over 130,000 participants enrolling since its inception in 1965. Since 1994 the program has been administered by the Corporation as part of AmeriCorps. VISTA participants work in communities to build local capacity to advance economic development in low-income neighborhoods across the United States. The study will examine the long-term impacts VISTA service has on participants' civic attitudes, life decisions, goals, values, and enduring habits of civic engagement.

The objective of this study is to explore the long-term impacts of VISTA participation from 1965-1994 on the lives of participants to a comparison group who enrolled in VISTA during the same time period and completed the VISTA orientation but who did not actually serve in the program (or served less than one month). To meet these objectives, a sample of VISTA participants and near-participants will be drawn from the roster of individuals enrolling in VISTA from 1965 to 1993. In addition to collecting information on the outcomes specified above, data on respondent demographics and pre-VISTA experiences will be collected. The inclusion of a comparison group of near-participants will provide insight into the outcomes realized by VISTA participants who completed their term of service.

This study will gather data using phone surveys and in-person interviews. The phone surveys will provide largely quantitative information, while the in-person interviews will allow for the collection of highly detailed and more qualitative descriptions of the life courses charted by VISTA participants and near-participants.

Type of Review: New Information Collection.

Agency: Corporation for National and Community Service.

Title: Study of Volunteers' Experience in the VISTA Program.

OMB Number: None.

Agency Number: None.

Affected Public: Individuals and households.

Total Respondents: 1400.

Frequency: Once.

Average Time Per Response: 43 minutes (telephone survey: average of 35 minutes per respondent; the in-person interview: average 3 hours per respondent).

Estimated Total Burden Hours: 997 hours.

Total Burden Cost (capital/startup): None.

Total Burden Cost (operating/maintenance): None.

Dated: November 29, 2004.
Robert Grimm,
Director, Office of Research and Policy Development.

[FR Doc. 04-27147 Filed 12-9-04; 8:45 am]

BILLING CODE 6050-$$-P